GENERAL SERVICES ADMINISTRATION

[OMB Control No. 3090-00XX; Docket 2010-0002; Sequence 21]

Office of Governmentwide Policy: Submission for OMB Review; Information Collection, Real Property Status Report, Standard Form (SF-XXXX)

AGENCY: Office of Governmentwide Policy, General Services Administration (GSA).

ACTION: Submission for OMB Review; Comment Request and Final Notice of the Real Property Status Report (RPSR) form.

SUMMARY: Effective with publication of this notice in the Federal Register, agencies will be able to utilize a new standard form to collect information on the status of real property under financial assistance awards. Under the provisions of the Paperwork Reduction Act of 1995 (44 U.S.C. Chapter 35), the GSA Office of Governmentwide Policy is submitting to the Office of Management and Budget (OMB) a request to review and approve a new information collection requirement concerning reporting real property status. The GSA, on behalf of the Grants Policy Committee proposes to issue a new standard form, the Real Property Status Report (RPSR) (SF-XXXX). Two notices were published in the Federal Register at 72 FR 64646, November 16, 2007 and 73 FR 67177, November 13, 2008.

This notice is being issued to address comments received as a result of the notice published in the Federal Register at 73 FR 67177, November 13, 2008 and to present changes made to the report as a result of those comments. We anticipate this being the final notice before the form and instructions are finalized. The general public and Federal agencies, however, are invited to comment on the proposed final format during the 30 day public comment period.

To view the report and the full list of comments received along with work group responses go to OMB's web page at http://www.OMB.gov and click on the link “Management,” then the link “Grants Management,” then the link “Forms,” then the link “Proposed Government-Wide Standard Grants Reporting Forms.”

DATES: Comment Due Date: October 18, 2010.

ADDRESSES: Submit comments identified by Information Collection 3090-00XX, Real Property Status Report, Standard Form (SF-XXXX), by any of the following methods:

• Regulations.gov: http://www.regulations.gov.

Submit comments via the Federal eRulemaking portal by inputting “Information Collection 3090-00XX; Real Property Status Report, Standard Form (SF-XXXX)” under the heading “Enter Keyword or ID” and selecting “Search.” Select the link “Submit a Comment” that corresponds with “Information Collection 3090-00XX; Real Property Status Report, Standard Form (SF-XXXX).” Follow the instructions provided at the “Submit a Comment” screen. Please include your name, company name (if any), and “Information Collection 3090-00XX; Real Property Status Report, Standard Form (SF-XXXX)” on your attached document.

• Fax: 202-501-4067.

• Mail: General Services Administration, Regulatory Secretariat (MVCB), 1800 F Street, NW., Room 4041, Washington, DC 20405. ATTN: Hada Flowers/IC 3090-00XX.

Instructions: Please submit comments only and cite Information Collection 3090-00XX; Real Property Status Report, Standard Form (SF-XXXX), in all correspondence related to this collection. All comments received will be posted without change to http://www.regulations.gov, including any personal and/or business confidential information provided.

FOR FURTHER INFORMATION CONTACT: Michael Nelson, Chair, Post-Award Workgroup; telephone (301)443-6808; fax (301)443-6686; e-mail MNelson@hrsa.gov; mailing address, 5600 Fishers Lane, Room 11-03, Rockville, MD 20857.

SUPPLEMENTARY INFORMATION:

A. Purpose

The report will be used to collect information related to real property when required by a Federal financial assistance award. The SF-XXXX includes a cover page, Attachment A, “General Reporting,” Attachment B, “Request to Acquire, Improve or Furnish,” Attachment C, “Disposition Request,” and instructions. The purpose of this new report is to assist recipients of grants and cooperative agreements when they are required to provide a Federal agency with information related to real property to which the Federal government holds an interest as a result of the real property being acquired, improved, or furnished under a Federal financial assistance award, and for real property that was donated to a Federal project in the form of a required match or cost sharing donation. The report establishes a standard format for reporting real property status under financial assistance awards. This rule also establishes an annual reporting date of September 30 to be used if an award does not specify an annual reporting date, unless Federal interest in the real property extends 15 years or longer.

In those instances where recipients have real property with Federal interest attached for a period of 15 years or more, Federal agencies, at their option, may require their recipients to report on various multi-year frequencies (e.g. every two years or every three years, not to exceed a five-year reporting period; or an agency may require annual reporting for the first three years of an award and thereafter require reporting every five years.)

To create uniformity of collection and support future electronic submission of information, the standard reporting form will replace any agency unique forms currently in use.

Background

The GSA, on behalf of the Federal Grants Streamlining Initiative, announced in the Federal Register on November 16, 2007 (72 FR 64646), its intent to issue a new standard report, the Real Property Status Report (SF-XXXX).

Public Law 106-107 required the OMB to direct, coordinate, and assist Executive Branch departments and agencies in establishing an interagency process to streamline and simplify Federal financial assistance procedures for non-Federal entities. The law also required executive agencies to develop, submit to the Congress, and implement a plan to achieve streamlined and simplified procedures.

Twenty-six Executive Branch agencies jointly submitted a plan to the Congress in May 2001, as the Act required. The plan described the interagency process through which the agencies would review current policies and practices, and seek to streamline and simplify them. The process involved interagency work groups under the auspices of the Grants Management Committee of the Chief Financial Officers Council. The plan also identified substantive areas in which the interagency work groups had begun their review.

One of the substantive areas that the agencies identified in the plan was a need to streamline and simplify Federal grant reporting requirements and procedures and associated business processes to reduce unnecessary burdens on recipients and to improve the timeliness, completeness, and quality of the information collected.

Under the standards for management and disposition of federally owned property, and real property acquired under assistance awards (real property status) in 2 CFR 215, the “Uniform Administrative Requirements for Grants and Agreements With Institutions of Higher Education, Hospitals, and Other Non-Profit Organizations,” and the “Uniform Administrative Requirements for Grants and Agreements with State and Local Governments,” codified by Federal agencies at 53 FR 8048 (March 11, 1988), recipients may be required to provide Federal agencies with information concerning property in their custody annually, at award closeout, or when the property is no longer needed.

During the public consultation process mandated by Public Law 106-107, recipients suggested the need for clarification of these requirements and the establishment of a standard report to help them submit appropriate property information when required. The Real Property Status Report is to be used in connection with the requirements listed in the table below and Federal awarding agency guidelines:

For . . . | A recipient must . . . | When . . .
Government Furnished Property | Submit an inventory listing. (Use: Cover Page and Attachment A) | Annually, with information accurate as of September 30, unless the award specifies a different date.
| Report the property to the Federal awarding agency and request disposition instructions. (Use: Cover Page and Attachments A and C) | The property is no longer needed. Upon completion of the award or at the point Federal interest in the property ceases.
| Notify the Federal awarding agency (Use: Cover Page and Attachment A) | Immediately upon finding property damaged, significantly altered, or when there is an anticipated change expected during the next reporting period.
| Request authority to furnish real property. (Use: Cover Page and Attachment B) | The recipient is authorized, via the assistance award, to request to furnish real property for the purposes of the project or program.
| Report the final disposition of the property. (Use: Cover Page and Attachment A) | After the recipient has completed the final disposition of the property in accordance with agency instructions.
Real property improved, donated or acquired in whole or in part under an assistance award. | Request authority to acquire or improve real property. (Use: Cover Page and Attachment B) | The recipient is authorized, via the assistance award, to request authorization from the awarding agency, during the post-award phase, to acquire or improve real property for the purposes of the project or program.
| Request disposition instructions. (Use: Cover Page and Attachment C) | The recipient no longer needs the property for any purpose.
| Report that the property has been sold and reimburse the Federal awarding agency for the Federal share. (Use: Cover Page and Attachment A) | The recipient is directed to sell the property under guidelines provided by the Federal awarding agency.
| Report the Transfer of title to the property to the Federal Government or to an eligible third party Compensate the original Federal awarding agency or its successor. (Use: Cover Page and Attachment A) | The recipient is directed to transfer title by the Federal awarding agency or its successor; or, The recipient wants to retain title without further obligation to the Federal Government.
| Obtain the approval of the Federal awarding agency. (Use: Cover Page and Attachment B) | Before making capital expenditures for improvements to property that materially increase its value or useful life.
| Obtain the approval of the Federal awarding agency. (Use: Cover Page and Attachment B) | The recipient wants to use the real property in other Federally-sponsored projects or programs that have purposes consistent with those authorized for support by the Federal awarding agency when the recipient determines that the property is no longer needed for the purposes of the original project.
| Report the final disposition of the property. (Use: Cover Page and Attachment A) | After the recipient has completed the final disposition of the property in accordance with agency instructions.
| Request release from the obligation to report on real property. (Use: Cover Page and Attachment C) | The Federal interest in the property expires, or the real property has been disposed of in accordance with agency instructions.

Discussion of Comments

Twenty-seven (27) comments were received in response to the November 13, 2008, Federal Register notice (73 FR 67177) regarding the Real Property Status Report (RPSR). All the comments came from two Federal agencies. Following the close of the comment period, an interagency team met to review the comments and make appropriate upgrades to the draft report. A summary of the comments and the work group responses are below:

Comment 1: The team received 1 comment that indicated some of the data in the RPSR are currently being reported in electronic form to the Federal Real Property Council (FRPC) and suggested that we coordinate the reporting requirements with the FRPC to eliminate duplication of effort and reporting systems.

Response: The commenter is referring to Federal property owned by the Government, not real property held by a grant/cooperative agreement recipient in which the Government maintains an interest. In those cases the RPSR would not be used. It would only be used by recipients of grants and cooperative agreements, not by a Federal agency reporting on real property.

Comment 2: The team received 4 comments expressing concern about the lack of current requirements in 2 CFR Part 215, the “Uniform Administrative Requirements for Grants and Agreements With Institutions of Higher Education, Hospitals, and Other Non-Profit Organizations,” and the “Uniform Administrative Requirements for Grants and Agreements with State and Local Governments,” codified by Federal agencies at 53 FR 8048 (March 11, 1988), that address the specific reporting requirements being implemented by the RPSR.

Response: The Grants Policy Committee (GPC) of the Chief Financial Officers Council is in the process of developing the related policy requirements for the implementation of the RPSR. As a result, OMB has decided to release the report as final at this time. However, agencies are not required to implement the use of the report until the final release of the related real property reporting requirements in the proposed 2 CFR Part 45. Agencies that wish to implement the RPSR requirements prior to the finalization of the related requirements in 2 CFR Part 45 may do so provided they issue related agency or program specific requirements. Such agency or program specific requirements would have to be amended once the RPSR policy requirements are finalized in 2 CFR Part 45.

Comment 3: The team received 1 comment stating that agencies should be provided the option to apply this reporting requirement retroactively to grantees with existing Federal interest in their facilities without having to seek a waiver from OMB.

Response: Agencies have the option to impose the requirement retroactively if they choose to do so via their individual agency implementation of the requirement. However, the reason the requirement is not required to be imposed retroactively is to reduce the impact of the requirement on the recipient community.

Comment 4: The team received 1 comment that recommended the instructions and forms should be clarified to reflect that the RPSR applies to new construction. They indicated that the term “acquisition” could be interpreted as being applicable to purchases only versus constructing a new facility.

Response: In response to the comment the general report instructions have been revised to include an example of the definition of acquisition as follows: “* * * acquired (i.e., purchased or constructed) in whole or in part under a Federal financial assistance award.

Comment 5: The team received 1 comment that suggested that the section of the Federal Register notice (73 FR 67177, November 13, 2008) which provides a chart listing when a recipient is to use the report, should where possible, reference the appropriate report attachment to use for reporting/requesting related information. They also suggested an additional line be added stating, “The recipient must report to the agency when it has completed disposition of the property.”

Response: In response to the comment the chart has been revised as requested.

Comment 6: The team received 1 question asking if an agency already has the authority to request information, such as a detailed floor plan, why would it need to request additional OMB approval?

Response: Once the RPSR is issued as final it may not be modified to meet program specific requirements without first obtaining OMB approval.

Comment 7: The team received 1 comment/question that indicated it is unclear if under the situation where an agency already collects real property related information through other means, such as an electronic system(s), or as part of another OMB approved form(s), whether the RPSR report or format would still be required, or whether the other existing collection methods satisfy the RPSR information collection requirement.

Response: Agencies may use electronic systems or formats to collect the information required by the RPSR as long as they are consistent with the data elements contained in the RPSR. However, other real property forms/reports will be discontinued once the related real property reporting requirements are implemented as final under the proposed 2 CFR, Part 45.

Comment 8: The team received 1 question regarding Attachment A, “General Reporting,” block 14e, “Real Property Ownership Types.” The commenter asked if the selection option of, “A. Owned” is defined as “grantee” owned or “Federally” owned. They also asked if more than one option can be checked (such as “Owned” and “Fee Simple”).

Response: The Attachment A, block 14e, selection option “A. Owned” is defined as grantee ownership. Also, the report and instructions have been revised to include “Government Furnished Property (GFP)” as an ownership type to cover Federal ownership. If multiple ownership types apply then each applicable type may be checked. This change is also reflected on Attachment B, block 14b, “Proposed Real Property Ownership Type.”

Comment 9: The team received 1 question concerning Attachment A, block 14f, “Beginning date of Federal Interest.” The commenter asked if it is necessary for grantees to report this information twice since the same information appears to be given in block 13, “Period of Federal Interest.”

Response: In response to the comment, block 14f has been eliminated and the options to which the Federal interest is tied (e.g., Acquisition, Renovation, etc.) have been moved to block 13. The numbering of the report and instructions has been revised accordingly.

Comment 10: The team received 1 question regarding Attachment A, original block 14h, “Has a deed, lien, covenant, or other related documentation been recorded to establish Federal interest in this real property?” The commenter asked, since this is a report to be used throughout the period of Federal interest, shouldn't the grantee have already provided this information before the project is completed and/or before closeout? Therefore, doesn't it seem burdensome to ask for this information for each reporting period?

Response: In response to the question we have revised what is now block 14g as follows: “* * * If yes (unless previously reported), describe the * * *”

Comment 11: The team received 1 question/comment regarding the instructions related to Attachment A, block 14h, which, as noted above, is now 14g. The commenter asked if it would be burdensome to request this information during each reporting period. The commenter stated that some of their operating divisions require this information 10 days after the Notice is filed. Therefore, the commenter suggested adding “unless previously reported” at the end of the “Yes” selection option.

Response: In response to the comment we have revised the instructions for what is now 14g as follows: “* * * If yes (unless previously reported), describe the * * *”

Comment 12: The team received 3 questions/comments concerning Attachment A, block 14j, “Are there any Uniform Relocation Act (URA) requirements applicable to this real property?”; block 14k, “Are there any environmental compliance requirements related to the real property?”; and block 14l, “In accordance with the National Historic Preservation Act (NHPA), does the property possess historic significance, and/or is listed or eligible for listing in the National Register of Historic Places?” The commenter stated that the questions in these blocks are being asked in the present tense when it would only be applicable to some projects at the pre-award stage. Therefore, how would the grantee answer the questions if they were applicable at the pre-award stage but not during the post-award stage? The commenter further asked if we should consider adding “N/A” if these questions need to be addressed during the post-award stage.

Response: The RPSR is a post-award report that only applies during the post-award stage. The sections of the report mentioned in this comment are used to document whether the URA, environmental compliance requirements, or NHPA apply to the real property during the post-award stage. The URA, environmental compliance requirements, or NHPA could potentially change during the award period or during the period under which Federal interest is maintained. Therefore, we did not revise the report in response to the questions raised. Note that blocks 14j, 14k, and 14l have been renumbered as 14i, 14j, and 14k, respectively.

Comment 13: The team received 1 comment regarding the instructions related to Attachment A, blocks 14j, 14k, and 14l, which, as noted above, are now 14i, 14j, and 14k, respectively. The commenter stated that the requirements are more applicable during the pre-award stage as opposed to the post-award stage. Therefore, it is not clear why they are being addressed on the RPSR.

Response: As previously mentioned in the response to comment 12, the sections of the report mentioned in this comment are used to document whether the URA, environmental compliance requirements, or NHPA apply to the real property which could potentially change during the award period or during the period under which Federal interest is maintained. Therefore, we did not revise the report in response to the comment.

Comment 14: The team received 1 comment concerning Attachment A, block 15, suggesting that it be edited to read as follows: “Has a significant change occurred with the use of real property, or is there an anticipated change expected during the next reporting period?” The commenter suggested that the use of the phrase “* * * that is not otherwise captured above * * *” is unnecessary.

Response: In response to the comment both this block of the report and the related instructions have been revised as follows: “Has a significant change occurred with the real property, or is there an anticipated change expected during the next reporting period?”

Comment 15: The team received 1 question concerning Attachment A, block 16, “Real Property Disposition Status.” The commenter asked why a question regarding “disposition of property” is being asked on this report. How would the grantee address the question if disposition is not applicable during the prescribed reporting period? The commenter stated that if the question is not omitted, “N/A” should be added as an option.

Response: In response to the comment, both block 16 of the report and the related instructions have been revised to add the option “N/A.”

Comment 16: The team received 1 comment regarding a specific agency requirement related to Attachment A, block 16, “Real Property Disposition Status.” The commenter indicated that their program regulation allows an institution to transfer the usage obligation to another facility, not another “award” during the required usage period. The commenter stated that if option “B. Transfer to different award” applies to this described situation, it does not appear to be applicable to the “disposition status” and therefore, should be removed.

Response: Block 16.B. is intended to cover those instances where the Federal interest in real property is transferred to a different award in accordance with 2 CFR Part 215.32(b).

Comment 17: The team received 1 comment suggesting that language should be added to Attachment B, “Request to Acquire, Improve or Furnish,” that ensures grantees will not fill out the Attachment unless they have received specific instructions by the awarding agency. The commenter suggests that this language will help avoid confusion on the part of grantees who may view Attachment B as a way to request new award funding. The commenter also suggested that the term “furnish” should be defined, as it could imply equipment which may or may not be permanently affixed to real property.

Response: In response to the comments the report instructions have been revised to clarify that Attachment B should only be used if the applicable program authority or budget allows recipients to acquire, improve or furnish real property. The term “furnish” has been replaced with the term Government Furnished Property.

Comment 18: The team received 1 comment regarding Attachment C, “Disposition Request,” blocks 14f, “Are there any Uniform Relocation Act (URA) requirements applicable to this real property?”; 14g, “Are there any environmental compliance requirements related to the real property?”; and 14h, “In accordance with the National Historic Preservation Act (NHPA), does the property possess historic significance, and/or is listed or eligible for listing in the National Register of Historic Places?” The commenter recommended deleting these question blocks since they felt the questions do not appear applicable to the “Disposition Request” attachment.

Response: We did not delete those blocks because they are intended to provide information regarding real property for which either a request for disposition instructions or a request for a release from the obligation to report would be submitted.

Comment 19: The team received 1 comment regarding the instructions related to Attachment C, in the section titled, “Real Property Details.” The commenter suggested that perhaps “N/A” should be added as an option on the report. The commenter pointed out that question blocks 14f, 14g, and 14h have only “Yes” and “No” options. The commenter suggested these questions should be deleted due to the nature of the report. The commenter also suggested that in block 13b, “Address of Real Property,” the part that says, “Also, indicate zoning information related to the real property (i.e., mixed use, residential, commercial, etc.)” should be deleted.

Response: Attachment C has been revised to say: “If a section does not apply, enter ‘N/A’.” Attachment C, blocks 14f, 14g and 14h have been retained because they are intended to provide relevant information regarding the URA, environmental, and NHPA requirements related to any property that a recipient would be requesting disposition instructions or requesting a release from the obligation to report. The reference to zoning information in block 13b has also been retained because it requests information that is relevant to the zoning status of property for which a disposition request or a request for a release from the obligation to report would be made.

Comment 20: The team received 1 question and comment regarding Attachment C, block 15, “If this is a request for a release from the obligation to report on the real property, describe the reasons for the request.” The commenter asked why it would be necessary for a grantee to “request the release from the obligation to report” when a Federal agency's authorizing or appropriation language does not require disposition beyond a prescribed usage period, and suggested revising the report to accommodate this situation.

Response: Block 15 is provided to document any event that would allow the recipient to request to be released from the obligation to report. In the examples provided in the instructions we believe that the agency and the recipient would benefit from the documentation of the release from the obligation to report, which is accommodated by block 15 of Attachment C. Therefore, block 15 has been retained.

B. Annual Reporting Burden

The burden estimates below are for the following agencies: NEH, HUD, DOE, VA, IMLS, ED, HHS, and DOT.

Estimated Total Annual Burden Hours: 3,543,685.45.

Estimated Cost: There is no expected cost to the respondents or to OMB.

Annual Burden Estimates
Instrument | Agency | Number of respondents | Number of responses per respondent | Average burden hours per response | Total burden hours
Real Property Status Report (RPSR) and Attachments | NEH | 10 | 1 | 4 | 40
Real Property Status Report (RPSR) and Attachments | HUD | 748 | 1.3 | 3.66 | 3,559
Real Property Status Report (RPSR) and Attachments | DOE | 500 | 1 | 2 | 1,000
Real Property Status Report (RPSR) and Attachments | VA | 200 | 1 | 2 | 400
Real Property Status Report (RPSR) and Attachments | IMLS | 10 | 1 | 4 | 40
Real Property Status Report (RPSR) and Attachments | ED | 1,694 | 1 | 8.3 | 14,060.2
Real Property Status Report (RPSR) and Attachments | DOT | 1,100 | 800 | 4 | 3,520,000
Real Property Status Report (RPSR) and Attachments | HHS | 1,223 | 1.5 | 2.5 | 4,586.25

Obtaining Copies of Proposals: Requesters may obtain a copy of the information collection documents from the General Services Administration, Regulatory Secretariat (MVCB), 1800 F Street, NW., Room 4041, Washington, DC 20405, telephone (202) 501-4755, or by faxing your request to (202) 501-4067. Please cite the title, OMB Control No. 3090-00XX, Real Property Status Report (SF-XXXX), in all correspondence.

Dated: August 27, 2010.
Casey Coleman,
Chief Information Officer.

[FR Doc. 2010-23032 Filed 9-15-10; 8:45 am]

BILLING CODE 6820-RH-P